DEPARTMENT OF ENERGY

Federal Energy Regulatory Commission

[Docket Nos. EL17-32-000; EL17-36-000]

Supplemental Notice of Technical Conference; Old Dominion Electric Cooperative v. PJM Interconnection, L.L.C.; Advanced Energy Management Alliance v. PJM Interconnection, L.L.C.

On February 23, 2018, the Commission issued an order (February Order) directing Commission staff to convene a technical conference in these proceedings.¹ Pursuant to the February Order, on March 16, 2018, a notice was issued soliciting responses to a list of questions in the above referenced proceedings.² The technical conference is scheduled for April 24, 2018, at the Commission's headquarters at 888 First Street NE, Washington, DC 20426 between 9:30 a.m. and 4:15 p.m. (EDT).

¹ Old Dominion Elec. Coop., 162 FERC ¶ 61,160 (2018).

² Notice of Request for Comments and Technical Conference, Docket Nos. EL17-32-000 and EL17-36-000 (Mar. 28, 2016).

In the February Order, the Commission found that the issues presented in the above captioned proceedings raise a number of issues related to the PJM capacity market that warrant further examination. Accordingly, the Commission established a technical conference to explore these issues. The purpose of the conference is to obtain further information concerning the above referenced proceedings.

A revised agenda with an updated list of selected speakers is attached and will be available on the web calendar on the Commission's website, www.ferc.gov. A schedule for post-technical conference comments will be established following the technical conference.

The conference will be open for the public to attend. Advanced registration is not required but is highly encouraged. Attendees may register at the following web page: http://www.ferc.gov/whats-new/registration/04-24-18-form.asp. Attendees should allow time to pass through building security procedures before the 9:30 a.m. (EDT) start time of the technical conference. In addition, information on this event will be posted on the Calendar of Events on the Commission's website, www.ferc.gov, prior to the event.

The technical conference will be transcribed and will be part of the record in these proceedings. Transcripts will be available for a fee from Ace-Federal Reports, Inc. (202-347-3700). There will be a free webcast of the conference. The webcast will allow persons to listen to the technical conference, but not participate. Anyone with internet access who wants to listen to the conference can do so by navigating to the Calendar of Events at www.ferc.gov and locating the technical conference in the Calendar. The technical conference listing on the calendar will contain a link to its webcast.

The Capitol Connection provides technical support for the webcast and offers the option of listening to the meeting via phone-bridge for a fee. The phone bridge must be requested at least 24 hours in advance of the meeting. If you have any questions, visit www.CapitolConnection.org or call 703-993-3100. The webcast will be available on the Calendar of Events on the Commission's website www.ferc.gov for three months after the conference.

Commission conferences are accessible under section 508 of the Rehabilitation Act of 1973. For accessibility accommodations, please send an email to accessibility@ferc.gov or call toll free (866) 208-3372 (voice) or (202) 502-8659 (TTY), or send a FAX to (202) 208-2106 with the required accommodations.

For more information about this technical conference, please contact:

Sarah McKinley (Logistical Issues), Office of External Affairs, 202-502-8368, sarah.mckinley@ferc.gov

John Riehl (Technical Issues), Office of Energy Market Regulation, 202-502-6026, john.riehl@ferc.gov

Noah Monick (Legal Issues), Office of General Counsel, 202-502-8299, noah.monick@ferc.gov

Dated: April 18, 2018.
Kimberly D. Bose,
Secretary.

[FR Doc. 2018-08477 Filed 4-23-18; 8:45 am]

BILLING CODE 6717-01-P